DEPARTMENT OF ENERGY

Federal Energy Regulatory Commission

Notice of Application Accepted for Filing and Soliciting Motions To Intervene and Protests

August 10, 2001.

Take notice that the following hydroelectric application has been filed with the Commission and is available for public inspection.

a. Type of Application: Amendment of License Application.

b. Project No.: 2030-036.

c. Date Filed: June 29, 2001.

d. Applicants: Portland General Electric Company (PGE) and the Confederated Tribes of the Warm Springs Reservation of Oregon (CTWS).

e. Name of Project: Pelton Round Butte Hydroelectric Project.

f. Location: The project is located on the Deschutes River in Jefferson, Marion, and Wasco Counties, Oregon. The project occupies lands of the Deschutes National Forest; Mt. Hood National Forest; Willamette National Forest; Crooked River National Grassland; Bureau of Land Management; and tribal lands of the Warm Springs Reservation of Oregon.

g. Filed Pursuant to: Federal Power Act, 16 U.S.C. 791(a)-825(r).

h. Applicant Contacts: Ms. Julie Keil, Director, Hydro Licensing, Portland General Electric Company, 121 SW Salmon Street, Portland, OR 97204, (503) 464-8864; and Mr. James Manion, General Manager, Warm Springs Power Enterprises, P.O. Box 690, Warm Springs, OR 97761, (541) 553-1046.

i. FERC Contact: Any questions on this notice should be addressed to Nan Allen at (202) 219-2839. E-mail address: nan.allen@ferc.fed.us.

j. Deadline for filing motions to intervene and protests: October 10, 2001.

All documents (original and eight copies) should be filed with: David P. Boergers, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, protests and interventions may be filed electronically via the Internet in lieu of paper. See, 18 CFR 385.2001(a)(1)(iii) and the instructions on the Commission's web site under the “e-Filing” link.

k. This application has been accepted, but is not ready for environmental analysis at this time.

l. The Round Butte development works consisting of: (1) The 440-foot-high, 1,382-foot-long Round Butte dam; (2) a 535,000-acre-foot reservoir with a normal pool elevation at 1,945.0 feet mean sea level; (3) a spillway intake structure topped with a 30-foot-high, 36-foot-wide radial gate, and a 1,800-foot-long, 21-foot-diameter spillway tunnel; (4) an 85-foot-long, varying in height and width, powerhouse intake structure; (5) a 1,425-foot-long, 23-foot-diameter power tunnel; (6) a powerhouse containing three turbine generating units with a total installed capacity of 247 megawatts (MW); (7) one 70-kilowatt (kW) turbine generating unit with a 30-inch-diameter pipe and support structure, a 10-foot square platform, and a turbine discharge pipe; (8) a 12.5-kilovolt (kV), 10.5-mile-long transmission line extending to the Reregulation dam, and a 230-kV, 100-mile-long transmission line extending to Portland General's Bethel substation; and (9) appurtenant facilities.

The Pelton development consists of: (1) The 204-foot-high, 636-foot-long thin-arch variable-radius reinforced concrete Pelton dam with a crest elevation 1,585 feet msl; (2) a reinforced concrete spillway on the left bank with a crest elevation of 1,558 feet msl; (3) Lake Simtustus with a gross storage capacity of 31,000 acre-feet and a normal maximum surface area of 540 acres at normal maximum water surface elevation of 1,580 feet msl; (4) an intake structure at the dam; (5) three 16-foot-diameter penstocks, 107 feet long, 116 feet long, and 108 feet long, respectively; (6) a powerhouse with three turbine/generator units with a total installed capacity of 108 MW; (7) a tailrace channel; (8) a 7.9-mile-long, 230-kV transmission line from the powerhouse to the Round Butte switchyard; and (9) other appurtenances.

The Reregulating development consists of: (1) The 88-foot-high, 1,067-foot-long concrete gravity and impervious core rockfilled Reregulating dam with a spillway crest elevation of 1,402 feet msl; (2) a reservoir with a gross storage capacity of 3,500 acre feet and a normal maximum water surface area of 190 acres at normal maximum water surface elevation of 1,435 feet msl; (3) a powerhouse at the dam containing a 18.9-MW turbine/generator unit; (4) a tailrace channel; (5) a 3.2-mile-long, 69-kV transmission line from the development to the Warm Springs substation; and (6) other appurtenances.

The project is estimated to generate an average of 1.613 billion kilowatthours annually. The dams and existing project facilities are owned by the co-applicants.

m. Copies of this filing are on file with the Commission and are available for public inspection. This filing may also be viewed on the web at http://www.ferc.gov using the “RIMS” link, select “Docket#” and follow the instructions (call 202-208-2222 for assistance). Copies are also available for inspection and reproduction at the addresses in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Linwood A. Watson, Jr.,
Acting Secretary.

[FR Doc. 01-20615 Filed 8-15-01; 8:45 am]

BILLING CODE 6717-01-P